DEPARTMENT OF ENERGY

Federal Energy Regulatory Commission

[Docket No. RP02-547-000]

National Fuel Gas Supply Corporation; Notice of Proposed Changes in FERC Gas Tariff

September 19, 2002.

Take notice that on September 16, 2002, National Fuel Gas Supply Corporation (National Fuel) tendered for filing as part of its FERC Gas Tariff, Fourth Revised Volume No. 1, the tariff sheets listed on Appendix A to the filing, with a proposed effective date of October 16, 2002.

National Fuel states that the purpose of the instant filing is to revise Section 10.8 of the General Terms and Conditions (1) to provide it with explicit authority to terminate capacity release awards under a Master Service Agreement for Capacity Release Transactions upon the termination of the agreement or award of the releasing shipper, and (2) to provide replacement shippers with certain rights to contract for the capacity covered by such terminated awards.

National Fuel states that copies of this filing were served upon its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-24332 Filed 9-18-02; 8:45 am]

BILLING CODE 6717-01-P